SECURITIES AND EXCHANGE COMMISSION

Sunshine Act Meeting

Federal Register Citation of Previous Announcement: 65 FR 56351.

STATUS: Open Meeting.

PLACE: 450 Fifth Street, NW., Washington, DC.

DATE PREVIOUSLY ANNOUNCED: September 18, 2000.

CHANGE IN THE MEETING: Time Change.

The open meeting scheduled for Wednesday, September 20, 2000 at 9 a.m., has been changed to Wednesday, September 20, 2000, at 8:30 a.m.

At times, changes in Commission priorities require alternations in the scheduling of meeting items. for further information and to ascertain what, if any, matters have been added, deleted or postponed, please contact:

The Office of the Secretary at (202) 942-7070.

Dated: September 15, 2000.
Jonathan G. Katz,
Secretary.

[FR Doc. 00-24195 Filed 9-15-00; 5:09 pm]

BILLING CODE 8010-01-M